FEDERAL COMMUNICATIONS COMMISSION

47 CFR Part 2

Frequency Allocations and Radio Treaty Matters

CFR Correction

In Title 47 of the Code of Federal Regulations, Parts 0 to 19, revised as of October 1, 2017, on page 657, in § 2.106, under “United States (US) Footnotes”, footnote US378 is reinstated to read as follows:

§ 2.106 Table of frequency allocations.

* * * * *

UNITED STATES (US) FOOTNOTES

* * * * *

US378 In the band 1710-1755 MHz, the following provisions apply:

(a) Federal fixed and tactical radio relay stations may operate indefinitely on a primary basis within 80 km of Cherry Point, NC (34°58′ N, 76°56′ W) and Yuma, AZ (32°32′ N, 113°58′ W).

(b) Federal fixed and tactical radio relay stations shall operate on a secondary basis to primary non-Federal operations at the 14 sites listed below:

State | Location | Coordinates
80 km radius of operation centered on:
CA | China Lake | 35°41′ N, 117°41′ W.
CA | Pacific Missile Test Range/Point Mugu | 34°07′ N, 119°30′ W.
FL | Eglin AFB | 30°29′ N, 086°31′ W.
MD | Patuxent River | 38°17′ N, 076°25′ W.
NM | White Sands Missile Range | 33°00′ N, 106°30′ W.
NV | Nellis AFB | 36°14′ N, 115°02′ W.
UT | Hill AFB | 41°07′ N, 111°58′ W.
50 km radius of operation centered on:
AL | Fort Rucker | 31°13′ N, 085°49′ W.
CA | Fort Irwin | 35°16′ N, 116°41′ W.
GA | Fort Benning | 32°22′ N, 084°56′ W.
GA | Fort Stewart | 31°52′ N, 081°37′ W.
KY | Fort Campbell | 36°41′ N, 087°28′ W.
NC | Fort Bragg | 35°09′ N, 079°01′ W.
WA | Fort Lewis | 47°05′ N, 122°36′ W.

(c) In the sub-band 1710-1720 MHz, precision guided munitions shall operate on a primary basis until inventory is exhausted or until December 31, 2008, whichever is earlier.

(d) All other Federal stations in the fixed and mobile services shall operate on a primary basis until reaccommodated in accordance with the Commercial Spectrum Enhancement Act.

* * * * *

[FR Doc. 2018-07566 Filed 4-11-18; 8:45 am]

BILLING CODE 1301-00-D